DEPARTMENT OF DEFENSE

Department of the Army

Reserve Officers' Training Corps (ROTC) Program Subcommittee

AGENCY: U.S. Army Cadet Command, U.S. Army DoD.

ACTION: Notice of meeting.

SUMMARY: In accordance with Section 10(a)(2) of the Federal Advisory Committee Act (5 U.S.C., App. 2), announcement is made of the following Committee meeting:

Name of Committee: Reserve Officers' Training Corps (ROTC) Program Subcommittee.

Dates of Meeting: February 4-7, 2001.

Place: Quality Inn, Hampton, Virginia.

Time: 0800-1700 hours, February 5-6, 2001; and 0800-1200 hours February 7, 2001.

Proposed Agenda: Review and discuss status of Army ROTC since the July 2000 meeting held in Tacoma, Washington.

FOR FURTHER INFORMATION CONTACT: Commander, HQ U.S. Army Cadet Command, ATTN: ATCC-TT (MAJ Hewitt), Fort Monroe, VA 23430. Telephone number is (757) 788-5456.

SUPPLEMENTARY INFORMATION: This meeting is open to the public. Any interested person may attend, appear before, or file statements with the committee.

Gregory D. Showalter,
Army Federal Register Liaison Officer.

[FR Doc. 00-32631 Filed 12-21-00; 8:45 am]

BILLING CODE 3710-08-M